DEPARTMENT OF ENERGY

[Number DE-PS07-02ID14323]

Plant Wide Assessments

AGENCY: Idaho Operations Office, DOE.

ACTION: Notice of availability of solicitation for awards of financial assistance.

SUMMARY: The U.S. Department of Energy (DOE), Idaho Operations Office (ID) is seeking cost shared applications for plant-wide assessments that will lead to substantial improvements in industrial energy efficiency, enhanced competitiveness and reduced environmental impacts. The objective is to continue industry participation in the Industry of the Future (IOF) Plant-Wide Opportunity Assessment Program. The industrial sites at which the assessment is conducted must fall within the Office of Industrial Technologies (OIT) Industry of the Future strategy areas. These include: Forest Products, Chemicals, Petroleum Refining, Steel, Aluminum, Metal Castings, Glass, Mining, and Agriculture.

DATES: The issuance date of Solicitation Number DE-PS07-02ID14323 will be on or about April 9, 2002. The deadline for receipt of applications is June 6, 2002, at 3 p.m. MDT.

ADDRESSES: The solicitation will be available in its full text on the Internet by going to the DOE's Industry Interactive Procurement System (IIPS) at the following URL address: http://e-center.doe.gov. This will provide the medium for disseminating solicitations and amendments to solicitations, receiving financial assistance applications and evaluating applications in a paperless environment. Completed applications are required to be submitted via IIPS. An IIPS “User Guide for Contractors” can be obtained on the IIPS Homepage and then click on the “Help” button. Questions regarding the operation of IIPS may be e-mailed to the IIPS Help Desk at IIPS_HelpDesk@e-center.doe.gov.

FOR FURTHER INFORMATION CONTACT: Trudy Harmel, Contract Specialist at harmelta@id.doe.gov, or Dallas L. Hoffer, Contracting Officer at hofferdl@id.doe.gov.

SUPPLEMENTARY INFORMATION: Information about the Office of Industrial Technologies Best Practices Program can be found at http://www.oit.doe.gov/bestpractices. The IOF industry-specific vision documents and technology roadmaps are available at http://www.oit.doe.gov/ under individual IOF program areas.

DOE anticipates making 7 to 9 cooperative agreement awards, with total estimated DOE funding of up to $900K, with no individual award to exceed $100,000 and a project period of no more than one year. A minimum 50% non-federal cost share is required. Only industrial “end-users” are eligible to submit project proposals. “End-users” are defined as those companies who own and operate the facility that is the focus of the assessment. In addition to end-user participation, a project team may involve other partners including, but not limited to, design and consulting engineering firms, manufacturers, distributors, utilities, energy service companies, state energy offices, research institutions, etc. The statutory authority for the program is the Federal Non-Nuclear Energy Research and Development Act of 1974 (Pub. L. 93-577).

The Catalog of Federal Domestic Assistance (CFDA) Number for this program is 81.086.

Issued in Idaho Falls on April 9, 2002.
R.J. Hoyles,
Director, Procurement Services Division.

[FR Doc. 02-9275 Filed 4-16-02; 8:45 am]

BILLING CODE 6450-01-P